DEPARTMENT OF STATE

[Public Notice 12484]

60-Day Notice of Proposed Information Collection: Law Enforcement Officers Safety Act (LEOSA) Photographic Identification Card Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 28, 2024.

ADDRESSES: Include any address that the public needs to know, such as: attending a public hearing or meeting, examining any material available for public inspection. For public comments, use the following text:

You may submit comments by any of the following methods:

• Web: Persons with access to the internet may comment on this notice by going to www.Regulations.gov. You can search for the document by entering “Docket Number: DOS-2024-0027 in the Search field. Then click the “Comment Now” button and complete the comment form.

• Email: TaylorJE@state.gov.

• Regular Mail: Send written comments to: DS/DO/DFP/SSD, SA-9 2025 E Street NW, Washington, DC 20522.

You must include the DS form number (if applicable), information collection title, and the OMB control number in any correspondence.

FOR FURTHER INFORMATION CONTACT: Direct requests for additional information regarding the collection listed in this notice, including requests for copies of the proposed collection instrument, and supporting documents, to Jason Taylor, SA-9 2025 E Street NW, Washington, DC 20588, who may be reached on 202-472-8801 or at TaylorJE@state.gov.

SUPPLEMENTARY INFORMATION:

• Title of Information Collection: LEOSA Photographic Identification Card Application.

• OMB Control Number: 1405-0245.

• Type of Request: Renewal.

• Originating Office: Diplomatic Security, Domestic Operations, Security Support Division (DS/DO/DFP/SSD).

• Form Number: DS-7809.

• Respondents: Current and former Diplomatic Security Service special agents.

• Estimated Number of Respondents: 90.

• Estimated Number of Responses: 90.

• Average Time per Response: 1 hour.

• Total Estimated Burden Time: 90 hours.

• Frequency: Once per application.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This information is being collected in response to the Department's requirements under the Law Enforcement Officers Safety Act of 2004 (LEOSA), as amended and codified at 18 U.S.C. 926C, which exempts a “qualified retired law enforcement officer” carrying a LEOSA photographic identification card from most state and local laws prohibiting the carriage of concealed firearms, subject to certain restrictions and exceptions.

Methodology

Applicants will fill out the application form either electronically or by hand and submit via email or mail.

K. Andrew Wroblewski,
Deputy Assistant Secretary, Diplomatic Security/Domestic Operations, Department of State.

[FR Doc. 2024-19139 Filed 8-26-24; 8:45 am]

BILLING CODE 4710-43-P